DEPARTMENT OF HEALTH AND HUMAN SERVICES

National Institutes of Health

Office of Loan Repayment and Scholarship; Proposed Collection; Comment Request; National Institutes of Health Loan Repayment Programs

SUMMARY: In compliance with the requirement of section 3506(c)(2)(A) of the Paperwork Reduction Act of 1995, for opportunity for public comment on proposed data collection projects, the Office of Loan Repayment and Scholarship, National Institutes of Health (NIH), will publish periodic summaries of proposed projects to be submitted to the Office of Management and Budget (OMB) for review and approval.

Proposed Collection: Title: National Institutes of Health Loan Repayment Programs. Type of Information Collection Request: Revision of currently approved collection (OMB No. 0925-0361, expiration date 11/30/01). Form Numbers: NIH 2674-1, NIH 2674-2, and NIH 2674-3, NIH 2674-4 and NIH 2674-5. Need and Use of Information Collection: The NIH makes available financial assistance, in the form of educational loan repayment, to M.D., Ph.D., Pharm.D., D.D.S., D.M.D., D.P.M., D.C., and N.D. degree holders, or the equivalent, who perform biomedical or biobehavioral research in NIH intramural laboratories or as extramural grantees for a minimum of 2 years (3 years for General Research LRP) in research areas supporting the mission and priorities of the NIH. The AIDS Research Loan Repayment Program (AIDS-LRP) is authorized by section 487A of the Public Health Service Act (42 U.S.C. 288-1); the General Research Loan Repayment Program (GR-LRP) is authorized by section 487C of the Public Health Service Act (42 U.S.C. 288-3); the Clinical Research Loan Repayment Program for Individuals from Disadvantaged Backgrounds (CR-LRP) is authorized by section 487E (42 U.S.C. 288-5); the Clinical Research Loan Repayment Program for Extramural Investigators is authorized by section 487F (42 U.S.C. 288-5a); and the Pediatric Research Loan Repayment Program (PR-LRP) is authorized by section 487F (42 U.S.C. 288-6). The loan repayment programs provide for the repayment of up to $35,000 a year of the principal and interest of the educational loan debt of qualified health professionals who agree to conduct qualifying research for each year of obligated service. Applicants must have qualifying educational debt in excess of 20 percent of their annual compensation on the expected date of program eligibility. The information proposed for collection will be used to determine an applicant's eligibility for participation in the program. Frequency of Response: Initial application and annual renewal application. Affected Public: Applicants, financial institutions, research institutions, recommenders. Type of Respondents: Physicians, other scientific or medical personnel, and institutional representatives. The annual reporting burden is as follows:

Type of respondents | Number of respondents | Estimated number of responses per respondent | Average burden hours per responses | Annual burden hours requested
Intramural LRPs:
Applicants | 75 | 1 | 10.0 | 750
Recommenders | 225 | 1 | 0.50 | 113
Financial Institutions | 375 | 1 | 0.33 | 124
Subtotal | 675 |  |  | 987
Extramural LRPs:
Applicants | 400 | 1 | 10.0 | 4,000
Recommenders | 1,200 | 1 | 0.50 | 600
Institutional Representatives | 400 | 1 | 1.50 | 600
Financial Institutions | 2,000 | 1 | 0.33 | 660
Subtotal | 4,000 |  |  | 5,860
Total | 4,675 |  |  | 6,847

The annualized cost to respondents is estimated at $175,166.63. There are no capital costs, operating costs, or maintenance costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION: Information on the proposed project or a copy of the data collection plans and instruments may be obtained by calling or writing: Marc S. Horowitz, J.D., Director, Office of Loan Repayment and Scholarship, National Institutes of Health, 2 Center Drive, Room 2E30, Bethesda, Maryland 20892-0230 or call non-toll-free (301) 402-5666 or e-mail your request, including your address, to <lrp@nih.gov>.

Comments Due Date: Comments regarding this information collection are best assured of having their full effect if received on or before October 19, 2001.

Dated: August 8, 2001.
Yvonne T. Maddox,
Acting Deputy Director, National Institutes of Health.

[FR Doc. 01-20865 Filed 8-17-01; 8:45 am]

BILLING CODE 4140-01-P